SECURITIES AND EXCHANGE COMMISSION

[Release No. 34-46425; File No. SR -NYSE-2002-24]

Self-Regulatory Organizations; Notice of Filing of Proposed Rule Change and Amendment No. 1 by the New York Stock Exchange, Inc. To Adopt Amendments to Exchange Rule 342 (“Offices—Approval, Supervision and Control”)

August 28, 2002.

Correction

In notice document 02-22605 beginning on page 56863 in the issue of Thursday, September 5, 2002 make the following correction:

On page 56863, in the second column, in the subject heading, in the seventh line, the date should appear as set forth above.

[FR Doc. C2-22605 Filed 9-11-02; 8:45 am]

BILLING CODE 1505-01-D